DEPARTMENT OF ENERGY

Federal Energy Regulatory Commission

[Project No. 13442-000]

McGinnis, Inc.; Notice of Preliminary Permit Application Accepted for Filing and Soliciting Comments, Motions To Intervene, and Competing Applications

June 26, 2009.

On April 29, 2009, McGinnis, Inc. filed an application, pursuant to section 4(f) of the Federal Power Act (FPA), proposing to study the feasibility of the Robert C. Byrd Hydrokinetic Project No. 13442, to be located on the Ohio River, in Mason County, West Virginia, and Gallia County, Ohio.

The proposed Robert C. Byrd Project would be located just downstream of the Robert C. Byrd Lock and Dam in an area of the Ohio River approximately 9,500-feet-long and 1,100-feet-wide and would consist of: (1) A single barge suspending up to 10 axial flow turbine generators into the river with a total installed capacity of 350 kilowatts; (2) a new 300 to 8,000-foot-long, 13.5-kV transmission line; and (3) appurtenant facilities. The project would have an estimated average annual generation of 1,533 megawatt-hours.

Applicant Contact: Mr. Bruce D. McGinnis, Sr., P.O. Box 534, 502 Second Street Ext., South Point, Ohio 45680, (740) 377-4391.

FERC Contact: Tom Dean, (202) 502-6041.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “eFiling” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of the Commission's Web site at http://www.ferc.gov/docs-filing/elibrary.asp. Enter the docket number (P-13442) in the docket number field to access the document. For assistance, call toll-free 1-866-208-3372.

Kimberly D. Bose,
Secretary.

[FR Doc. E9-15897 Filed 7-6-09; 8:45 am]

BILLING CODE 6717-01-P